DEPARTMENT OF HEALTH AND HUMAN SERVICES

National Institutes of Health

Center for Scientific Review; Amended Notice of Meeting

Notice is hereby given of a change in the meeting of the Modeling and Analysis of Biological Systems Study Section, May 26, 2011, 8 a.m. to May 27, 2011, 4 a.m., Doubletree Hotel Bethesda, 8120 Wisconsin Avenue, Bethesda, MD, 20814 which was published in the Federal Register on April 12, 2011, 76 FR 20359.

The meeting will be one day only, May 26, 2011, 8 a.m. to 6 p.m. The meeting location remains the same. The meeting is closed to the public.

Dated: April 25, 2011.
Jennifer S. Spaeth,
Director, Office of Federal Advisory Committee Policy.

[FR Doc. 2011-10497 Filed 4-29-11; 8:45 am]

BILLING CODE 4140-01-P